DEPARTMENT OF JUSTICE

Antitrust Division

Notice Pursuant to the National Cooperative Research and Production Act of 1993—Cooperative Research Group on Numerical Propulsion System Simulation

Notice is hereby given that, on December 11, 2013, pursuant to Section 6(a) of the National Cooperative Research and Production Act of 1993, 15 U.S.C. 4301 et seq. (“the Act”), Southwest Research Institute—Cooperative Research Group on Numerical Propulsion System Simulation (“NPSS”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are The Boeing Company, Seattle, WA; General Electric Company, Cincinnati, OH; Honeywell International Inc., Tucson, AZ; Lockheed Martin Corporation, Fort Worth, TX; Ohio Aerospace Institute, Brook Park, OH; Rolls-Royce Corporation, Indianapolis, IN; Teledyne Technologies Inc. d/b/a Teledyne Turbine Engines, Toledo, OH; United Technologies Corporation, East Hartford, CT; and Williams International Co., LLC, Commerce Township, MI. NPSS was originally developed by engineers at NASA Glenn Research Center in 1995. The NPSS code is used for the development of engine performance models that can be integrated into vehicle system models allowing engine manufactures to easily share critical performance information. The code maintenance and development of NPSS was assigned by NASA to an industrial consortium operated by the NPSS Consortium Members. The Consortium Members transferred management responsibility of this consortium to Southwest Research Institute.

The general area of NPSS's planned activity is to maintenance of the core program, and major improvement projects. For example, the development of a graphical user interface to improve user interaction with the NPSS code and the addition of the capability to handle multiple unit systems beside the English system which is currently the default in NPSS.

Membership in this group research project remains open, and NPSS intends to file additional written notification disclosing all changes in membership of planned activities.

Patricia A. Brink,
Director of Civil Enforcement, Antitrust Division.

[FR Doc. 2014-03619 Filed 2-19-14; 8:45 am]

BILLING CODE P